CONSUMER PRODUCT SAFETY COMMISSION

[Docket Number CPSC-2021-0036]

Privacy Act of 1974; System of Records

AGENCY: Consumer Product Safety Commission (US CPSC).

ACTION: Notice of a new system of records.

SUMMARY: A system for the US CPSC's Consumer Ombudsman to track public inquiries.

DATES: Comments must be received no later than January 19, 2022. The new system of records will be effective on January 20, 2022, unless CPSC receives comments that would result in a contrary determination.

ADDRESSES: You may submit comments, identified by Docket No. CPSC-2021-0036, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions in the following way: Mail/hand delivery/courier to: Office of the General Counsel Division of the Secretariat, U.S. Consumer Product Safety Commission, 4330 East West Highway, Bethesda, MD 20814; telephone (301) 504-7264.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number, CPSC-2021-, into the “Search” box, and follow the prompts.

FOR FURTHER INFORMATION CONTACT: Nina DiPadova, General Attorney, U.S. Consumer Product Safety Commission, Office of the General Counsel, Division of the Secretariat, phone: 301-504-7264, 4330 East West Highway, Bethesda MD 20814.

SUPPLEMENTARY INFORMATION:

SYSTEM NAME AND NUMBER:

Consumer Ombudsman Inquiry Database, CPSC-2021-.

SECURITY CLASSIFICATION:

Not Classified.

SYSTEM LOCATION:

U.S. Consumer Product Safety Commission, 4330 East West Highway, Bethesda, MD 20814.

SYSTEM MANAGER(S):

Consumer Ombudsman, 4330 East West Highway, Bethesda, MD, 20814, 301-504-8120, consumerombudsman@cpsc.gov.

AUTHORITY FOR MAINTENANCE OF THE SYSTEM:

5 U.S. Code § 301

PURPOSE(S) OF THE SYSTEM:

The CPSC uses this system to store, track, and manage inquiries received by the Consumer Ombudsman from members of the public at large. These inquiries may include PII from individuals who contacted the Commission concerning product safety issues affecting them, e.g., telephone number and address.¹

¹ The Commission voted unanimously (4-0) to publish this notice.

CATEGORIES OF INDIVIDUALS COVERED BY THE SYSTEM:

Members of the public-at-large, who have contacted the Commission with a product safety concern or question.

CATEGORIES OF RECORDS IN THE SYSTEM:

Members of the public-at-large: Individual's name, home address, home telephone number(s), personal cell phone number(s), electronic email address, and other miscellaneous information that an individual may include in a comment or questions to the CPSC.

RECORD SOURCE CATEGORIES:

Records can be submitted by direct phone call, electronic mail, Information Center referral, staff referral, or website input.

ROUTINE USES OF RECORDS MAINTAINED IN THE SYSTEM, INCLUDING CATEGORIES OF USERS AND PURPOSES OF SUCH USES:

Staff uses the information in the system to reply to consumer inquiries through electronic mail, telephone, or postal mail.

POLICIES AND PRACTICES FOR STORAGE OF RECORDS:

The information in this system includes paper documents, records, and files that are stored in cabinets, and electronic records, files, and data that are stored in the Commission's computer network databases.

POLICIES AND PRACTICES FOR RETRIEVAL OF RECORDS:

Paper records can be filed and retrieved by the name of the inquirer or by other indicia. Computer records are indexed by, and retrievable by, date of submission, names, and other indicia.

POLICIES AND PRACTICES FOR RETENTION AND DISPOSAL OF RECORDS:

The agency's Office of the General Counsel, Division of the Secretariat and the National Archives and Records Administration will determine a records schedule for this system, which will be an agency-specific records schedule with retention periods determined with a set period, along with an option to retain for longer periods, if necessary, for business use.

ADMINISTRATIVE, TECHNICAL, AND PHYSICAL SAFEGUARDS:

The CPSC computer network databases are protected by security protocols, which include controlled access, passwords, and other security features. Paper documents will be secured in a locked office. The agency IT staff limits access to the system by putting users into predefined user roles with specific permissions for each role that dictates what abilities each user has on the system. Once a user is logged into the system, the software records when each visit occurred and logs every page and action performed on each site with the user's corresponding IP address. Only staff having an IT duty will be given permission in their user roles to access the system. IT staff have documented controls governing access to the system, which require manager approval. However, each accessing event does not require manager approval. Once a user has been assigned a role that allows access, then the individual can access the system, as needed.

RECORD ACCESS PROCEDURES:

Consumer Ombudsman, 4330 East West Highway, Bethesda, MD, 20814, 301-504-8120, consumerombudsman@cpsc.gov.

CONTESTING RECORD PROCEDURES:

Consumer Ombudsman, 4330 East West Highway, Bethesda, MD, 20814, 301-504-8120, consumerombudsman@cpsc.gov.

NOTIFICATION PROCEDURES:

Consumer Ombudsman, 4330 East West Highway, Bethesda, MD, 20814, 301-504-8120, consumerombudsman@cpsc.gov.

EXEMPTIONS PROMULGATED FOR THE SYSTEM:

None.

HISTORY:

N/A—This is a new SORN for a new system.

Dated: December 14, 2021.
Alberta Mills,
Secretary.

[FR Doc. 2021-27440 Filed 12-17-21; 8:45 am]

BILLING CODE 6355-01-P